ENVIRONMENTAL PROTECTION AGENCY

[FRL-7641-4, EDocket ID No. OAR-2004-0015]

Agency Information Collection Activities: Proposed Collection; Comment Request; Part 70 Operating Permits Regulations, EPA ICR Number 1587.06, OMB Control Number 2060-0243

AGENCY: Environmental Protection Agency (EPA).

ACTION: Notice; correction.

SUMMARY: The EPA published a document in the Federal Register of March 23, 2004 (69 FR 13524), soliciting comments on a proposal to renew an information collection request (ICR), before submitting the ICR to the Office of Management and Budget for review and approval. The document contained incorrect EDocket ID and EPA ICR Numbers.

FOR FURTHER INFORMATION CONTACT: Grecia A. Castro, 919-541-1351.

SUPPLEMENTARY INFORMATION:

Correction

In the Federal Register of March 23, 2004, in FR 04-6430, on page 13524, in the first column, make the following corrections to the heading section:

1. EDocket ID No. “OAR-2004-0016” is corrected to read: OAR-2004-0015.

2. EPA ICR Number “1713.06” is corrected to read: 1587.06.

Dated: March 24, 2004.
William T. Harnett,
Director, Information Transfer and Program Implementation Division.

[FR Doc. 04-6927 Filed 3-26-04; 8:45 am]

BILLING CODE 6560-50-P